DEPARTMENT OF JUSTICE

Antitrust Division

Notice Pursuant to the National Cooperative Research and Production Act of 1993—Rotorcraft Industry Technology Association, Inc. (“RITA”)

Notice is hereby given that, on August 8, 2000, pursuant to Section 6(a) of the National Cooperative Research and Production Act of 1993, 15 U.S.C. 4301 et seq. (“the Act”), Rotorcraft Industry Technology Association, Inc. (“RITA”) has filed written notifications simultaneously with the Attorney General and the Federal Trade Commission disclosing changes in its membership status. The notifications were filed for the purpose of extending the Act's provisions limiting the recovery of antitrust plaintiffs to actual damages under specified circumstances. Specifically, Lord Corporation, Cary, NC has been added as a party to this venture. Also, The University of Illinois at Chicago, Chicago, IL and The University of Alabama, Tuscaloosa, AL have been dropped as parties to this venture.

No other changes have been made in either the membership or planned activity of the group research project. Membership in this group research project remains open, and RITA intends to file additional written notification disclosing all changes in membership.

On September 28, 1995, RITA filed its original notification pursuant to Section 6(a) of the Act. The Department of Justice published a notice in the Federal Register pursuant to Section 6(b) of the Act on April 3, 1996 (61 FR 14817).

The last notification was filed with the Department on November 24, 1999. A notice was published in the Federal Register pursuant to Section 6(b) of the Act on July 11, 2000 (65 FR 42726).

Constance K. Robinson,
Director of Operations, Antitrust Division.

[FR Doc. 00-24606 Filed 9-25-00; 8:45 am]

BILLING CODE 4410-11-M